NUCLEAR REGULATORY COMMISSION

[Docket Nos. 50-259, 50-260, and 50-296]

Tennessee Valley Authority; Browns Ferry Nuclear Plant, Units 1, 2, and 3, Environmental Assessment and Finding of No Significant Impact

The U.S. Nuclear Regulatory Commission (NRC) is considering issuance of an exemption from Title 10 of the Code of Federal Regulations (10 CFR), Part 50, Appendix R, for Facility Operating License Nos. DPR-33, DPR-52, and DPR-68, issued to the Tennessee Valley Authority (TVA, the licensee), for operation of the Browns Ferry Nuclear Plant (BFN), Units 1, 2, and 3, located in Limestone County, Alabama. Therefore, as required by 10 CFR 50.21, the NRC is issuing this environmental assessment and finding of no significant impact.

Environmental Assessment

Identification of the Proposed Action

The proposed action would allow intervening combustibles such as the 480V Reactor Building Vent Boards 1B, 2B, and 3B; small panels in Units 1, 2 and 3; and the 1-hour fire rated fire wrap (Thermo-lag) material in the 20-foot separation zones identified.

The proposed action is in accordance with the licensee's application dated October 26, 2006, as supplemented by a letter dated January 11, 2007.

The Need for the Proposed Action

Section III.G of Appendix R to 10 CFR Part 50 is related to fire protection features to ensure that components of redundant trains of equipment, including cables and circuits, to achieve and maintain safe-shutdown are free of fire damage. Either the fire protection configurations must meet the specific requirements of Section III.G or an alternative fire protection configuration must be justified by a fire hazard analysis.

During the September 2006 NRC audit of the Unit 1 Fire Protection Program, it was identified that 20-foot separation zones included intervening combustibles that were not specifically addressed in an approved exemption by the NRC dated October 21, 1988. TVA has requested this exemption in order to revise the October 1988 exemption to include additional combustibles such as the 480V Reactor Building Vent Boards 1B, 2B, and 3B; small panels in Units 1, 2 and 3; and the one hour fire rated fire wrap (Thermo-lag) material for the 20-foot separation zones identified.

Environmental Impacts of the Proposed Action

The proposed action will not significantly increase the probability or consequences of accidents. The NRC staff has completed its evaluation of the proposed exemption and associated amendment and finds that the calculated total doses remain within the acceptance criteria of 10 CFR 50.67 and General Design Criterion 19, and there is no significant increase in occupational or public radiation exposure. The NRC staff, thus, concludes that granting the proposed exemption would result in no significant radiological environmental impact.

The proposed action does not affect nonradiological plant effluents or historical sites, and has no other environmental impact. Therefore, there are no significant nonradiological impacts associated with the proposed exemption.

Accordingly, the NRC concludes that there are no significant environmental impacts associated with the proposed action.

Alternative to the Proposed Action

As an alternative to the proposed action, the NRC staff considered denial of the proposed action (i.e., the “no action” alternative). Denial of the exemption would result in no change in current environmental impacts. Thus, the environmental impacts of the proposed action and the alternative action are similar.

Alternative Use of Resources

The action does not involve the use of any different resources than those previously considered in the Final Environmental Statement for the BFN dated September 1, 1972, for Units 1, 2, and 3.

Agencies and Persons Consulted

In accordance with its stated policy, on February 6, 2007, the NRC staff consulted with the Alabama State official, Kirk Whatley of the Office of Radiological Control, regarding the environmental impact of the proposed action. The State official had no comments.

Finding of No Significant Impact

On the basis of the environmental assessment, the Commission concludes that the proposed action will not have a significant effect on the quality of the human environment. Accordingly, the Commission has determined not to prepare an environmental impact statement for the proposed action.

For further details with respect to the purposed action, see the licensee's letter dated October 26, 2006. Documents may be examined, and/or copied for a fee, at the NRC's Public Document Room (PDR), located at One White Flint North, Public File Area O-1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 20th day of February 2007.
For the Nuclear Regulatory Commission.
Eva A. Brown,
Project Manager, Plant Licensing Branch II-2, Division of Operating Reactor Licensing, Office of Nuclear Reactor Regulation.

[FR Doc. E7-3476 Filed 2-27-07; 8:45 am]

BILLING CODE 7590-01-P